DEPARTMENT OF HEALTH AND HUMAN SERVICES

National Institutes of Health

National Institute on Alcohol Abuse and Alcoholism; Notice of Meeting

Pursuant to section 10(d) of the Federal Advisory Committee Act, as amended (5 U.S.C. Appendix 2), notice is hereby given of the meeting of the National Advisory Council on Alcohol Abuse and Alcoholism.

The meeting will be open to the public as indicated below, with attendance limited to space available. Individuals who plan to attend and need special assistance, such as sign language interpretation or other reasonable accommodations, should notify the Contact Person listed below in advance of the meeting.

A portion of the meeting will be closed to the public in accordance with the provisions set forth in sections 552b(c)(4), and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council on Alcohol Abuse and Alcoholism, National Cancer Advisory Board, and National Advisory Council on Drug Abuse.

Open: February 4, 2015.

Time: 9 a.m. to 2 p.m.

Agenda: Presentation of NIAAA, NCI and NIDA Director's Update, Concept Clearance, Scientific Reports, and other topics within the scope of the Collaborative Research on Addiction at NIH (CRAN).

Place: National Institutes of Health, 5635 Fishers Lane, Terrace Level Conference Room, Rockville, MD 20852.

Contact Person: Abraham P. Bautista, Ph.D., Director, Office of Extramural Activities, National Institute on Alcohol Abuse and Alcoholism, National Institutes of Health, 5635 Fishers Lane, Room 2085, Rockville, MD 20852, (301) 443-9737, bautista@mail.nih.gov.

Paulette Gray, Ph.D., Director, Office of Extramural Research, National Cancer Institute, National Institutes of Health, 9609 Medical Center Drive, Room 7W444, Rockville, MD 20892, (240) 276-6340, grayp@dea.nci.nih.gov.

Mark Swieter, Ph.D., Acting Director, Office of Extramural Affairs, National Institute on Drug Abuse, National Institutes of Health, 6001 Executive Blvd., Room 4243, Rockville, MD 20852, (301) 435-1389, mswieter@nida.nih.gov.

Name of Committee: National Advisory Council on Alcohol Abuse and Alcoholism.

Closed: February 4, 2015.

Time: 2 p.m. to 5:30 p.m.

Agenda: Presentation of BSC intramural evaluation report and review of grant applications.

Place: National Institutes of Health, 5635 Fishers Lane, Terrace Level Conference Room, Rockville, MD 20852.

Open: February 5, 2015.

Time: 9 a.m. to 2 p.m.

Agenda: Presentation of NIAAA Director's report, concept clearance, scientific lectures and other topics on alcohol abuse and alcoholism of interest to the public and NIAAA's stakeholders.

Place: National Institutes of Health, 5635 Fishers Lane, Terrace Level Conference Room, Rockville, MD 20852.

Contact Person: Abraham P. Bautista, Ph.D., Director, Office of Extramural Activities, National Institute on Alcohol Abuse and Alcoholism, National Institutes of Health, 5635 Fishers Lane, Room 2085, Rockville, MD 20852, (301) 443-9737, bautista@mail.nih.gov.

Any interested person may file written comments with the committee by forwarding the statement to the Contact Person listed on this notice. The statement should include the name, address, telephone number and when applicable, the business or professional affiliation of the interested person.

Information is also available on the Institute's/Center's home page: http://www.niaaa.nih.gov/AboutNIAAA/AdvisoryCounci/Pages/default.aspx, where an agenda and any additional information for the meeting will be posted when available.

(Catalogue of Federal Domestic Assistance Program Nos. 93.271, Alcohol Research Career Development Awards for Scientists and Clinicians; 93.272, Alcohol National Research Service Awards for Research Training; 93.273, Alcohol Research Programs; 93.891, Alcohol Research Center Grants; 93.701, ARRA Related Biomedical Research and Research Support Awards, National Institutes of Health, HHS)

Dated: January 5, 2015.
Melanie J. Gray,
Program Analyst, Office of Federal Advisory Committee Policy.

[FR Doc. 2015-00119 Filed 1-8-15; 8:45 am]

BILLING CODE 4140-01-P